DEPARTMENT OF AGRICULTURE

Forest Service

Juneau Resource Advisory Committee

AGENCY: Forest Service, USDA.

ACTION: Notice of meeting.

SUMMARY: The Juneau Resource Advisory Committee will meet in Juneau, AK. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend project proposals that will meet the purposes of improving or maintaining existing infrastructure (roads & trails), implementing stewardship objectives that enhance forested ecosystems, and/or restoring and improving land health and water quality on National Forest System lands.

DATES: The meeting will be held September 25, 2012, 8 a.m. to 12 p.m.

ADDRESSES: The meeting will be held at Juneau Ranger District, 8510 Mendenhall Loop Road, Juneau, AK 99801.

Written comments may be submitted as described under Supplementary Information. All comments, including names and addresses when provided, are placed in the record and are available for public inspection and copying. The public may inspect comments received at Juneau Ranger District. Please call ahead to (907) 586-8800 to facilitate entry into the building to view comments.

FOR FURTHER INFORMATION CONTACT: Marti Marshall, Designated Federal Official, Juneau Ranger District, (907) 586-8800, mmarshall01@fs.fed.us.

Individuals who use telecommunication devices for the deaf (TDD) may call the Federal Information Relay Service (FIRS) at 1-800-877-8339 between 8 a.m. and 8 p.m., Eastern Standard Time, Monday through Friday.

SUPPLEMENTARY INFORMATION: The following business will be conducted: (1) Review of project proposals for recommendation to Forest Supervisor. Anyone who would like to bring related matters to the attention of the committee may file written statements with the committee staff before the meeting. The agenda will include time for people to make oral statements of three minutes or less. Individuals wishing to make an oral statement should request in writing by September 10, 2012 to be scheduled on the agenda. Written comments and requests for time for oral comments must be sent to 8510 Mendenhall Loop Road, Juneau, AK 99801, or by email to mmarshall01@fs.fed.us, or via facsimile to (907) 586-8808. A summary of the meeting will be posted at https://fsplaces.fs.fed.us/fsfiles/unit/wo/secure_rural_schools.nsf/RAC/Juneau?OpenDocument within 21 days of the meeting.

Meeting Accommodations: If you require sign language interpreting, assistive listening devices or other reasonable accommodation please request this in advance of the meeting by contacting the person listed in the section titled For Further Information Contact. All reasonable accommodation requests are managed on a case by case basis.

Dated: August 28, 2012.
Marti M. Marshall,
Designated Federal Official.

[FR Doc. 2012-22032 Filed 9-7-12; 8:45 am]

BILLING CODE 3410-11-M